DEPARTMENT OF AGRICULTURE

Forest Service

South Mt. Baker-Snoqualmie Resource Advisory Committee (RAC)

AGENCY: Forest Service, USDA.

ACTION: Notice of meetings.

SUMMARY: The South Mt. Baker-Snoqualmie Resource Advisory Committee (RAC) will meet Friday, May 13, 2005 at the Snoqualmie Ranger District office, 42404 SE., North Bend Way, North Bend, WA 98045-9545.

The meeting will begin at 9 a.m. and continue until about 4:30 p.m. Agenda items to be covered include: (1) Election of a new RAC committee Chairperson, (2) Review of by-laws, (3) Review of project evaluation processes, (4) Presentation of proposed projects and (5) Selection of proposed projects.

All South Mt. Baker-Snoqualmie Resource Advisory Committee meetings are open to the public. Interested citizens are encouraged to attend.

The South Mt. Baker-Snoqualmie Resource Advisory Committee advises King and Pierce Counties on projects, reviews project proposals, and makes recommendations to the Forest Supervisor for projects to be funded by Title II dollars. The South Mt. Baker-Snoqualmie Resource Advisory Committee was established to carry out the requirements of the Secure Rural Schools and Community Self-Determination Act of 2000.

FOR FURTHER INFORMATION CONTACT: Direct questions regarding this meeting to Jim Franzel, Snoqualmie District Ranger, USDA Forest Service, Mt. Baker-Snoqualmie National Forest, 42404 SE., North Bend Way, North Bend, WA 98045, (425-888-1421 Extension 230).

Dated: April 15, 2005.
Jim Franzel,
Designated Federal Official.

[FR Doc. 05-8091 Filed 4-21-05; 8:45 am]

BILLING CODE 3410-11-M